DEPARTMENT OF COMMERCE

Bureau of Export Administration

Action Affecting Export Privileges; Infocom Corporation, Inc., Tetrabal Corporation, Inc., Bayan Medhat Elashi, Ghassan Elashi, Basman Medhat Elashi, Ihsan Medhat, Ishan Medhat “Sammy” Elashi, Hazim Elashi, Fadwa Elafrangi

In the Matter of: Infocom Corporation, Inc., 630 International Parkway, Suite 100, Richardson, Texas 75081; Respondent and Tetrabal Corporation, Inc., 316 Candlewood Place, Richardson, Texas 75081; Bayan Medhat Elashi, 1810 Auburn, Richardson, Texas 75081; Ghassan Elashi, 304 Town House Lane, Richardson, Texas 75081; Basman Medhat Elashi, 1506 Willow Crest Drive, Richardson, Texas 75081; Ihsan Medhat “Sammy” Elashi, 316 Candlewood Place, Richardson, Texas 75081; Hazim Elashi, 937 Stone Trail Drive, Plano, Texas 75023; Fadwa Elafrangi, 306 Town House Lane, Richardson, Texas 75081, Related persons.

Order Temporarily Denying Export Privileges

Through the Office of Export Enforcement (“OEE”), the Bureau of Export Administration (“BXA”), U.S. Department of Commerce, has asked me to issue an order pursuant to § 766.24 of the Export Administration Regulations (currently codified at 15 CFR parts 730-774 (2001)) (“EAR” or “Regulations”) ¹, temporarily denying all U.S. export privileges to Infocom Corporation, Inc., 630 International Parkway, Suite 100, Richardson, Texas 75081 (“Infocom”). BXA has also asked that, pursuant to §§ 766.24(c) and 766.23 of the regulations, the order apply to the following persons who are related to Infocom:

¹ The Regulations were issued pursuant to the Export Administration Act of 1979 (“Act”), 50 U.S.C. app. secs. 2401-2420 (1994 & Supp. IV 1998), as reauthorized by Act of November 13, 2000, Pub. L. 106-508, 114 Stat. 2360. The Act lapsed on August 20, 2001. Pursuant to the International Emergency Economic Powers Act (50 U.S.C. 1701-1706 (1994 & Supp. IV 1998)), the President, through Executive Order 13222 of August 17, 2001 (66 FR 44025 (August 22, 2001)), has continued the Regulations in force.

Tetrabal Corporation, Inc., 316 Candlewood Place, Richardson, Texas 75081

Bayan Medhat Elashi, 1810 Auburn, Richardson, Texas 75081

Ghassan Elashi, 304 Town House Lane, Richardson, Texas 75081

Basman Medhat Elashi, 1506 Willow Crest Drive, Richardson, Texas 75081

Ihsan Medhat “Sammy” Elashi, 316 Candlewood Place, Richardson, Texas 75081

Hazin Elashi, 937 Stone Trail Drive, Plano, Texas 75023

Fadwa Elafrangi, 306 Town House Lane, Richardson, Texas 75081

In its request, BXA states that, based upon an investigation by OEE, it believes that Infocom has violated the Regulations by shipping and attempting to ship goods to Libya and Syria without obtaining the necessary authorizations from BXA. Specifically, BXA has determined that Infocom made three shipments of computer equipment without the required export licenses from BXA. These were:

(1) A 1997 shipment of computer accessories to Malta that was, immediately upon its arrival in Malta, shipped to Libya. Infocom had dealt with a representative of the ultimate end-user in Libya in a manner that suggests that Infocom was aware that the goods were ultimately intended for that country. Infocom did not have the appropriate U.S. Government authorization to ship the goods to Libya. Additionally, Infocom did not disclose the identity of the ultimate consignee on the shipper's export declaration it filed for the shipment, listing instead a forwarder in Malta.

(2) An April 1999 shipment of one computer as well as memory chips and central processing units (“CPUs”) to Syria. Infocom made this shipment directly from Texas to Syria. The Regulations required Infocom to obtain an export license from BXA to make the shipment to Syria because the shipment contained items that were controlled for anti-terrorism reasons. Infocom did not receive an export license for this transaction.

(3) An August 2000 shipment of a computer to Syria without the required export license from BXA. In addition, Infocom undervalued the goods in this shipment on the export control documents.

Additionally, in June 1999, Infocom made an attempted shipment of CPUs to Syria. It used the same freight forwarder as the April 1999 shipment above. When the freight forwarder questioned whether the shipment required an export license, Infocom's Logistics Manager, Basman Elashi, stated that he had checked, and that it did not. Infocom did not complete the shipment through this freight forwarder. In fact, the shipment would have required a license from BXA.

In addition to these transactions, OEE's investigation also establishes that Infocom offered price quotations to other customers in Syria. It also suggests that Infocom has many contacts in third countries through whom it could send goods to Syria and Libya as it did the 1997 shipment through Malta.

Thus, OEE's investigation demonstrates that Infocom has made repeated exports without the required U.S. government authorization, and that it has attempted to conceal these shipments by undervaluing goods, filing false and deceptive SEDs, and avoiding freight forwarders that ask uncomfortable questions.

OEE's investigation has disclosed that one corporation and six natural persons are closely related by their ownership, control, affiliation, or connection with Infocom. All of the natural persons have received wages from Infocom. Their names, addresses, and relationships to Infocom are set out below as listed in documents available to OEE:

Tetrabal Corporation, Inc., 316 Candlewood Place, Richardson, Texas 75081

A business owned and operated by the same principals as Infocom and located at the same address.

Bayan Medhat Elashi, 1810 Auburn, Richardson, Texas 75081

Chief Executive Officer of Infocom

Ghassan Elashi, 304 Town House Lane, Richardson, Texas 75081

Vice President of Marketing of Infocom

Basman Medhat Elashi, 1506 Willow Crest Drive, Richardson, Texas 75081

Logistics Manager of Infocom

Ihsan Medhat “Sammy” Elashi, 316 Candlewood Place, Richardson, Texas 75081

Systems Consultant for Infocom

Hazim Elashi, 937 Stone Trail Drive, Plano, Texas 75023

Manager of Personal Computers Division of Infocom

Fadwa Elafrangi, 306 Town House Lane, Richardson, Texas 75081

Majority owner of Infocom

(During the course of the investigations, OEE investigators discovered different spellings for “Elashi” including: “El Ashi,” “Elashyi,” “Elashye,” and “Ashi.”)

In light of the evidence cited above that Infocom has committed repeated violations of the regulations that are deliberate and covert, that its principals have actively sought to engage in further export transactions, and that, given the nature of the items shipped, future violations could go undetected. In addition, a temporary denial order is needed to give notice to companies in the United States and abroad that they should cease dealing with Infocom in export transactions involving U.S.-origin items. Such a temporary denial order is clearly consistent with the public interest to preclude future violations of the Regulations.

Accordingly, I am issuing this order because I have concluded that a TDO is necessary, in the public interest, to prevent an imminent violation of the regulations. This order is issued on an ex parte basis without a hearing based upon BXA's showing that expedited action is required.

It Is Therefore Ordered:

First, that Infocom Corporation, Inc., 630 International Parkway, Suite 100, Richardson, Texas 75081 (“the denied person”) and the following persons subject to the order by their relationship to the denied person, Tetrabal Corporation, Inc., 316 Candlewood Place, Richardson, Texas 75081; Bayan Medhat Elashi, 810 Auburn, Richardson, Texas 75081; Ghassan Elashi, 304 Town House Lane, Richardson, Texas 75081; Basman Medhat Elashi, 1506 Willow Crest Drive, Richardson, Texas 75081; Ihsan Medhat “Sammy” Elashi, 316 Candlewood Place, Richardson, Texas 75081; Hazim Elashi, 937 Stone Trail Drive, Plano, Texas 75023; Fadwa Elafrangi; 306 Town House Lane; Richardson, Texas 75081 (“the related persons”) (together, the denied person and the related persons are “persons subject to this order”) may not, directly or indirectly, participate in any way in any transaction involving any commodity, software or technology (hereinafter collectively referred to as “item”) exported or to be exported from the United States that is subject to the Export Administration Regulations (EAR), or in any other activity subject to the EAR, including, but not limited to:

A. Applying for, obtaining, or using any license, License Exception, or export control document;

B. Carrying on negotiations concerning, or ordering, buying, receiving, using, selling, delivering, storing, disposing of, forwarding, transporting, financing, or otherwise servicing in any way, transaction involving any item exported or to be exported from the United States that is subject to the EAR, or in any other activity subject to the EAR; or

C. Benefiting in any way from any transaction involving any item exported or to be exported from the United States that is subject to the EAR, or in any other activity subject to the EAR.

Second, that no person may, directly or indirectly, do any of the following:

A. Export or reexport to or on behalf of a person subject to this order any item subject to the EAR;

B. Take any action that facilitates the acquisition or attempted acquisition by a person subject to this order of the ownership, possession, or control of any item subject to the EAR that has been or will be exported from the United States, including financing or other support activities related to a transaction whereby a person subject to this order acquires or attempts to acquire such ownership, possession or control;

C. Take any action to acquire from or to facilitate the acquisition or attempted acquisition from a person subject to this order of any item subject to the EAR that has been exported from the United States;

D. Obtain from a person subject to this order in the United States any item subject to the EAR with knowledge or reason to know that the item will be, or is intended to be, exported from the United States; or

E. Engage in any transaction to service any item subject to the EAR that has been or will be exported from the United States and which is owned, possessed or controlled by a person subject to this order, or service any item, of whatever origin, that is owned, possessed or controlled by a person subject to this order if such service involves the use of any item subject to the EAR that has been or will be exported from the United States. For purposes of this paragraph, servicing means installation, maintenance, repair, modification or testing.

Third, that, in addition to the related persons named above, after notice and opportunity for comment as provided in § 766.23 of the EAR, any other person, firm, corporation, or business organization related to the denied person by affiliation, ownership, control, or position of responsibility in the conduct of trade or related services may also be made subject to the provisions of this order.

Fourth, that this order does not prohibit any export, reexport, or other transaction subject to the EAR where the only items involved that are subject to the EAR are the foreign-produced direct product of U.S.-origin technology.

In accordance with the provisions of § 766.24(e) of the regulations, Infocom may, at any time, appeal this Order by filing a full written statement in support of the appeal with the Office of the Administrative Law Judge, U.S. Coast Guard ALJ Docketing Center, 40 South Gay Street, Baltimore, Maryland 21202-4022. A related person may appeal to the Administrative Law Judge at the aforesaid address in accordance with the provisions of § 766.23(c) of the regulations.

This Order is effective immediately and shall remain in effect for 180 days.

In accordance with the provisions of § 766.24(d) of the regulations, BXA may seek renewal of this Order by filing a written request not later than 20 days before the expiration date. Infocom may oppose a request to renew this Order by filing a written submission with the Assistant Secretary for Export Enforcement, which must be received not later than seven days before the expiration date of the Order.

A copy of this Order shall be served on Infocom and each related person and shall be published in the Federal Register.

Entered this 6th day of September, 2001.
Michael J. Garcia,
Assistant Secretary for Export Enforcement.

[FR Doc. 01-22948 Filed 9-12-01; 8:45 am]

BILLING CODE 3510-DT-M